DEPARTMENT OF COMMERCE

National Oceanic and Atmospheric Administration

[I.D. 042104A]

North Pacific Fishery Management Council; Public Meeting

AGENCY: National Marine Fisheries Service (NMFS), National Oceanic and Atmospheric Administration (NOAA), Commerce.

ACTION: Notice of a public meeting.

SUMMARY: The Pacific Northwest Crab Industry Advisory Committee will meet in Seattle, WA.

DATES: The meeting will be held on May 12, 2004, beginning at 9 a.m.

ADDRESSES: The meeting will be held at the Alaska Fisheries Science Center, 7600 Sand Point Way NE., Building 4, Room 2076 (Jim Traynor Seminar Room) Seattle, WA.

Council address: North Pacific Fishery Management Council, 605 W. 4th Ave., Suite 306, Anchorage, AK 99501-2252.

FOR FURTHER INFORMATION CONTACT: Diana Stram, North Pacific Fishery Management Council; telephone: 907-271-2809.

SUPPLEMENTARY INFORMATION: The meeting agenda consists of the following topics: (1) election of officers; (2) update on the implementation of the crab rationalization plan; and (3) update on pribilof collaborative.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at 907-271-2809 at least seven business days prior to the meeting date.

Dated: April 22, 2004.
Alan D. Risenhoover,
Acting Director, Office of Sustainable Fisheries, National Marine Fisheries Service.

[FR Doc. E4-943 Filed 4-27-04; 8:45 am]

BILLING CODE 3510-22-S